DEPARTMENT OF JUSTICE

[OMB Number 1110-0026]

Agency Information Collection Activities; Proposed eCollection eComments Requested; Federal Firearms Licensee (FFL) Enrollment/National Instant Criminal Background Check System (NICS) E-Check Enrollment Form, Federal Firearms Licensee (FFL) Officer/Employee Acknowledgement of Responsibilities Under the NICS Form

AGENCY: Federal Bureau of Investigation, Department of Justice.

ACTION: 30-Day notice.

SUMMARY: The Department of Justice (DOJ), Federal Bureau of Investigation (FBI), Criminal Justice Information Services (CJIS) Division's National Instant Criminal Background Check System (NICS) Section will be submitting the following information collection request to the Office of Management and Budget (OMB) for review and approval in accordance with the Paperwork Reduction Act of 1995. This proposed information collection was previously published in the Federal Register at 82 FR 6540, on February 8, 2016, allowing for a 60 day comment period and no comments were received.

DATES: Comments are encouraged and will be accepted for an additional 30 days until May 16, 2016.

FOR FURTHER INFORMATION CONTACT: If you have additional comments especially on the estimated public burden or associated response time, suggestions, or need a copy of the proposed information collection instrument with instructions or additional information, please contact Brandon S. Seifert, Management and Program Analyst, Federal Bureau of Investigation, Criminal Justice Information Services (CJIS) Division, NICS section, Module A-3, 1000 Custer Hollow Road, Clarksburg, West Virginia 26306, or facsimile at (304) 625-7540. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1. Type of Information Collection: Extension of a currently approved collection.

2. The Title of the Form/Collection: Federal Firearms Licensee (FFL) Enrollment/National Instant Criminal Background Check System (NICS) E-Check Enrollment Form, Federal Firearms Licensee (FFL) Officer/Employee Acknowledgment of Responsibilities under the NICS form.

3. The agency form number: UnNumbered.

4. Affected public who will be asked or required to respond, as well as a brief abstract:

Primary: Any Federal Firearms Licensee (FFL) or State Point of Contact (POC) requesting access to conduct National Instant Criminal Background Check Systems (NICS) checks telephonically or by the Internet through the NICS E-Check.

Other: Federal, State, local or tribal government.

Abstract: The Brady Handgun Violence Prevention Act of 1993 required the United States Attorney General to establish a national instant criminal background check system that any FFL may contact, by telephone or by other electronic means, for information to be supplied immediately, on whether receipt of a firearm to a prospective purchaser would violate state or federal law. Information pertaining to licensees who may contact the NICS is being collected to manage and control access to the NICS and to the NICS E-Check, to ensure appropriate resources are available to support the NICS and also to ensure the privacy and security of NICS information.

5. An estimate of the total number of respondents and the amount of time estimated for an average respondent to respond:

The completion of the Federal Firearms Licensee (FFL) Enrollment/National Instant Criminal Background Check System (NICS) E-Check Enrollment Form is estimated that there are 406 respondents each month, 4,872 (406 × 12) annual responses, and that each response takes approximately two minutes, time to complete the form is estimated to be three minutes; and the time to assemble, mail, or fax the form to the FBI is estimated to be three minutes, for a total of 8 minutes per form. Total completion time is 4872 × 8/60 = 650 hours.

The completion of the Federal Firearms Licensee (FFL) Officer/Employee Acknowledgment of Responsibilities under the NICS form is estimated to take approximately three minutes to read the responsibilities and two minutes to complete the form, for a total of five minutes. The average hour burden for this specific forms is 6,000 × 5 minutes/60 = 250 hours.

6. An estimate of the total public burden (in hours) associated with the collection: The entire process of reading the letter and completing both forms would take 15 minutes per respondent. The average hour burden for completing both forms and reading the accompanying letter would be 4,872 × 15/60 = 1,218 hours.

If additional information is required contact: Jerri Murray, Department Clearance Officer, United States Department of Justice, Justice Management Division, Policy and Planning Staff, Two Constitution Square, 145 N Street NE., 3E.405B, Washington, DC 20530.

Dated: April 12, 2016.
Jerri Murray,
Department Clearance Officer for PRA, U.S. Department of Justice.

[FR Doc. 2016-08719 Filed 4-14-16; 8:45 am]

BILLING CODE 4410-02-P